NUCLEAR REGULATORY COMMISSION

[Docket No. 70-7028; NRC-2017-0233]

Special Nuclear Materials License: Johns Hopkins University Applied Physics Laboratory

AGENCY: Nuclear Regulatory Commission.

ACTION: License; issuance.

SUMMARY: The U.S. Nuclear Regulatory Commission (NRC) has issued special nuclear materials (SNM) License No. SNM-7004 to the Johns Hopkins University Applied Physics Laboratory (JHU/APL), in Laurel, Maryland to possess and use SNM for research and development programs. The license authorizes JHU/APL to possess and use SNM for 10 years from the date of issuance.

DATES: License SNM-7004 was issued on February 22, 2019.

ADDRESSES: Please refer to Docket ID NRC-2017-0233 when contacting the NRC about the availability of information regarding this document. You may obtain publicly available information related to this document using any of the following methods:

• Federal Rulemaking website: Go to http://www.regulations.gov and search for Docket NRC-2017-0233. Address questions about NRC docket IDs to Jennifer Borges Roman; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Document collection at https://www.nrc.gov/reading-rm/adams.html. To begin the search, select “Begin Web-based ADAMS Search.” For problems with ADAMS, contact the NRC's Public Document Room (PDR) reference staff at 1-800-397-4209, 301-415-4737, or by email to pdr.resource@nrc.gov. The ADAMS accession number for each document referenced (if it is available in ADAMS) is provided the first time that it is mentioned in this document. In addition, for the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Merritt N. Baker, Office of Nuclear Material Safety and Safeguards, U.S. Nuclear Regulatory Commission, Washington, DC 20555-0001; telephone: 301-415-7119; email: Merritt.Baker@nrc.gov.

SUPPLEMENTARY INFORMATION:

I. Discussion

Pursuant to section 2.106 of title 10 of the Code of Federal Regulations (10 CFR), the NRC is providing notice of the issuance of new License SNM-7004 to JHU/APL, which authorizes JHU/APL to possess and use SNM for research and development programs at its location in Laurel, Maryland. This licensee's original application for a license was made on December 23, 2016 (ADAMS Accession No. ML17018A080). Because the licensed material will be used for research and development purposes, issuance of License SNM-7004 is an action that is categorically excluded from a requirement to prepare an environmental assessment or environmental impact statement, pursuant to 10 CFR 51.22(c)(14)(v). A notice of receipt of the license renewal application with an opportunity to request a hearing and petition for leave to intervene was published in the Federal Register on December 15, 2017 (82 FR 59660). The NRC did not receive a request for a hearing or for a petition for leave to intervene. This license complies with the standards and requirements of the Atomic Energy Act of 1954, as amended, and the NRC's rules and regulations as set forth in 10 CFR chapter 1. Accordingly, the license was issued on February 22, 2019, and was effective immediately.

The NRC prepared a safety evaluation report for the issuance of License SNM-7004 and concluded that the licensee can operate the facility without endangering the health and safety of the public.

II. Availability of Documents

The documents identified in the following table are available to interested persons through ADAMS accession numbers as indicated.

Document | ADAMS Accession No.
JHU/APL Request for New License, December 23, 2016 | ML17018A080
NRC Request for Additional Information, September 7, 2017 | ML17227A533
JHU/APL Response to Request for Additional Information, October 31, 2017 | ML17328A509
Transmittal of JHU/APL License (SNM-7004), February 22, 2019 | ML18157A288
Enclosure 1: SNM-7004 JHU/APL Materials License, February 22, 2019 | ML18157A343
Enclosure 2: Safety Evaluation Report for JHU/APL License February 22, 2019 | ML18159A285

Dated at Rockville, Maryland, this 8th day of April, 2019.
For the Nuclear Regulatory Commission.
Michael F. King,
Director, Division of Fuel Cycle Safety, Safeguards, and Environmental Review, Office of Nuclear Material Safety and Safeguards.

[FR Doc. 2019-07253 Filed 4-11-19; 8:45 am]

BILLING CODE 7590-01-P